DEPARTMENT OF COMMERCE

National Oceanic and Atmospheric Administration

RIN: 0648-XD27

South Atlantic Fishery Management Council; Public Hearings

AGENCY: National Marine Fisheries Service (NMFS), National Oceanic and Atmospheric Administration, Commerce.

ACTION: Notice of public hearings.

SUMMARY: The South Atlantic Fishery Management Council (Council) will convene a series of public hearings regarding Amendments15A and 15B to the Snapper Grouper Fishery Management Plan. Amendment 15A will contain actions to establish management reference points, rebuilding schedules, and rebuilding strategies for snowy grouper, black sea bass, and red porgy. Amendment 15B will contain actions to prohibit the sale of recreationally-caught fish, reduce the effects on sea turtle and smalltooth sawfish if hooked, change the permit renewal period, change the permit transferability requirements, implement a plan to monitor and assess bycatch, establish allocations for snowy grouper and red porgy, and establish Maximum Sustainable Yield (MSY), Optimum Yield (OY) and Maximum Stock Size Threshold (MSST) for golden tilefish.

DATES: The public hearings will be held in November 2007. Written comments for Amendment 15 A must be received in the Council office by 5 p.m. on December 3, 2007. Written comments for Amendment 15B must be received in the Council office by 5 p.m. on January 11, 2008. See SUPPLEMENTARY INFORMATION for the specific dates and times of the public scoping meetings.

ADDRESSES: Written comments should be sent to Bob Mahood, Executive Director, South Atlantic Fishery Management Council, 4055 Faber Place Drive, Suite 201, North Charleston, SC 29405, fax: (843) 769-4520 or via email. Email Amendment 15A comments to SG15A@safmc.net and Amendment 15B comments to SG15B@safmc.net. Copies of the Amendment 15A and Amendment 15B Public Hearing Documents are available from Richard DeVictor, South Atlantic Fishery Management Council, 4055 Faber Place Drive, Suite 201, North Charleston, SC 29405; telephone: (843) 571-4366 or toll free at (866) SAFMC-10.

FOR FURTHER INFORMATION CONTACT: Richard DeVictor, South Atlantic Fishery Management Council, 4055 Faber Place Drive, Suite 201, North Charleston, SC 29405; telephone: (843) 571-4366; fax: (843) 769-4520; email address: Richard.devictor@safmc.net.

SUPPLEMENTARY INFORMATION:

Public hearing dates and locations:

All meetings are scheduled to begin at 6 p.m.

•November 13, 2007 - Sombrero Cay Club, 19 Sombrero Boulevard, Marathon, FL 33050; telephone: (305) 743-2250.

•November 14, 2007 - Sheraton Yankee Clipper Hotel, 1140 Seabreeze Boulevard (A1A), Fort Lauderdale, FL 33316; telephone: (954) 524-5551.

•November 15, 2007 - Radisson Resort at the Port, 8701 Astronaut Boulevard, Cape Canaveral, FL 32920; telephone: (321) 784-0000.

•November 16, 2007 - Comfort Inn Oceanfront, 1515 North 1st Street, Jacksonville Beach, FL 32250; telephone: (904) 241-2311.

•November 27, 2007 - Mighty Eighth Air Force Museum, 175 Bourne Avenue, Pooler, GA 31322; telephone: (912) 748-8888.

•November 28, 2007 - Hilton Garden Inn Charleston Airport, 5265 International Boulevard, North Charleston, SC 29418; telephone: (843) 308-9330.

•November 28, 2007 - Avista Resort, 300 N. Ocean Boulevard, North Myrtle Beach, SC 29582; telephone: (843) 249-2521.

•November 29, 2007 - Shell Island Resort, 2700 Lumina Avenue, Wrightsville Beach, NC 28480; telephone: (910) 256-0418.

•November 30, 2007 - NC Aquarium on Roanoke Island, 374 Airport Road, Manteo, NC 27954; telephone: (252) 473-3494.

•December 3, 2007 - Sheraton Atlantic Beach, 2717 W. Fort Macon Road, Atlantic Beach, NC 28512; telephone: (252) 240-1155.

Special Accommodations

These meetings are physically accessible to people with disabilities. Requests for sign language interpretation or other auxiliary aids should be directed to the Council office (see ADDRESSES) by November 8, 2007.

Dated: October 15, 2007.
Tracey L. Thompson,
Acting Director, Office of Sustainable Fisheries, National Marine Fisheries Service.

[FR Doc. E7-20588 Filed 11-18-07; 8:45 am]

BILLING CODE 3510-22-S